DEPARTMENT OF LABOR

Employment And Training Administration

[TA-W-54,974]

Tarkett, Inc., Whitehall, Pennsylvania; Notice of Negative Determination Regarding Application for Reconsideration

By letter of August 4, 2004, the petitioner requested administrative reconsideration of the Department's negative determination regarding eligibility for workers and former workers of the subject firm to apply for Trade Adjustment Assistance (TAA) and Alternative Trade Adjustment Assistance (ATAA). The negative determination was signed on June 16, 2004. Department's notice of determination was published in the Federal Register on July 7, 2004 (69 FR 40983).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial petition was denied because the subject worker group did not produce an article within the meaning of section 222(3) of the Act. The Department determined that the workers sold imported sheet vinyl flooring and provided administrative and information technology (IT) support for the sales team.

Information supplied in the initial investigation indicate that production of sheet vinyl flooring at the subject facility ceased completely in 1999, that sheet vinyl flooring has not been made domestically since 1999, and that workers at the subject facility are engaged in the sale of sheet vinyl flooring produced entirely in Canada. The investigation also revealed that sales, marketing, and customer service functions are being performed at the subject facility, and that certain sales and IT positions moved to Canada.

The petitioner alleges that their job functions are being performed by workers at an affiliated Canadian facility. The petitioner infers that the same circumstances that supported a previous certification for the subject firm (TA-W-39,469; signed July 31, 2001) should support the current application.

The petitioner also alleges that the subject worker group supports an affiliated, TAA-certified facility (Tarkett, Inc., Newburgh, New York; signed March 24, 2003; TA-W-50,982). The petitioner further alleges that the closing of the New York site contributed to worker separations at the subject facility.

The petitioner has not presented any new facts or made any allegation that facts used in determining TAA eligibility were erroneous or that there was a misinterpretation of facts. Thus, the Department reaffirms the determination that the workers at the subject firm do not produce an article within the meaning of Section 222(3) of the Trade Act 1974.

Conclusion

After review of the application and investigative findings, I conclude that there has been no error or misinterpretation of the law or of the facts which would justify reconsideration of the Department of Labor's prior decision. Accordingly, the application is denied.

Signed in Washington, DC, this 26th day of August, 2004.
Elliott S. Kushner,
Certifying Officer, Division of Trade Adjustment Assistance.

[FR Doc. E4-2094 Filed 9-7-04; 8:45 am]

BILLING CODE 4510-30-P